DEPARTMENT OF LABOR

Office of the Secretary

Submission for OMB Review: Comment Request

August 8, 2005.

The Department of Labor (DOL) has submitted the following public information collection requests (ICRs) to the Office of Management and Budget (OMB) for review and approval in accordance with the Paperwork Reduction Act of 1995 (Pub. L. 104-13, 44 U.S.C. chapter 35). A copy of each ICR, with applicable supporting documentation, may be obtained by contacting Darrin King on 202-693-4129 (this is not a toll-free number) or e-mail: king.darrin@dol.gov.

Comments should be sent to Office of Information and Regulatory Affairs, Attn: OMB Desk Officer for the Employment Standards Administration (ESA), Office of Management and Budget, Room 10235, Washington, DC 20503, 202-395-7316 (this is not a toll-free number), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Employment Standards Administration.

Type of Review: Extension of currently approved collection.

Title: Application of the Employee Polygraph Protection Act.

OMB Number: 1215-0170.

Form Number: WH-1481.

Frequency: On occasion.

Type of Response: Recordkeeping, and third party disclosure.

Affected Public: Business and other for-profit, not-for-profit institutions, and farms.

Number of Respondents: 328,000.

Annual Reponses: 328,000.

Average Response Time: Varies from 1 minute to 30 minutes, depending on the notice.

Total Annual Burden Hours: 68,739.

Total Annualized capital/startup costs: $0.

Total Annual Costs (operating/maintaining systems or purchasing services): $0.

Description: The Wage and Hour Division (WHD) of the Department of Labor (DOL) administers the Employee Polygraph Protection Act of 1988 (EPPA), 29 U.S.C. 2001 et seq. The EPPA prohibits most private employers from using any lie detector tests either for pre-employment screening or during the course of employment. The Act contains an exemption applicable to Federal, State and local government employers. The EPPA also contains several limited exemptions authorizing polygraph tests under certain conditions, including testing: (1) By the Federal Government of experts, consultants or employees of Federal contractors engaged in national security intelligence or counterintelligence functions; (2) of employees the employer reasonably suspects of involvement in a workplace incident resulting in economic loss or injury to the employer's business; (3) of some prospective employees of private armored cars, security alarm and security guard firms; and (4) of some current and prospective employees of certain firms authorized to manufacture, distribute or dispense controlled substances. The WHD may assess civil money penalties of up to $10,000 against employers who violate any EPPA provision. DOL currently has no printed public use forms associated with this information collection that consists of third-party disclosures and recordkeeping requirements. Appendix A of Regulations, 29 CFR part 801, contains a written statement setting forth both the examinee's and employer's legal rights, for use in satisfying the EPPA section 8(b)(2)(d) disclosure requirement. DOL proposes to make the information in Appendix A available on an optional public use form that will be available through the Departmental Internet website in PDF format.

Agency: Employment Standards Administration.

Type of Review: Extension of currently approved collection.

Title: Representative Payee Report, Representative Payee Report, Short Form, and Physician's Medical Officer's Statement.

OMB Number: 1215-0173.

Form Numbers: CM-623, CM-623S, and CM-787.

Frequency: On occasion.

Type of Response: Reporting.

Affected Public: Individuals or households, business and other for-profit, and not-for-profit institutions.

Number of Respondents: 5,339.

Form | Estimated number of annual responses | Average response time (hours) | Estimated annual burden hours
CM-623 | 3,344 | 1.50 | 5,016
CM-623S | 1,015 | 0.17 | 169
CM-787 | 980 | 0.25 | 245
Total | 5,339 |  | 5,430

Total Annualized capital/startup costs: $0.

Total Annual Costs (operating/maintaining systems or purchasing services): $0.

Description: The Office of Workers' Compensation Programs administers the Federal Black Lung Workers' Compensation Program. Under the Federal Mine Safety and Health Act (30 U.S.C. 901) benefits due a DOL black lung beneficiary may be paid to a representative payee on behalf of the beneficiary when the beneficiary is unable to manage his/her benefits due to incapability, incompetence, or minority. The CM-623, Representative Payee Report is used to collect expenditure data regarding the disbursement of the beneficiary's benefits by the representative payee to assure that the beneficiary's needs are being met. The CM-623S, Representative Payee Report, Short Form is a shortened version of the CM-623 that is used when the representative payee is a family member. The CM-787, Physician's/Medical Officer's Statement is a form used by OWCP to gather information from the beneficiary's physician about the capability of the beneficiary to manage monthly benefits. It is used by OWCP to determine if it is in the beneficiary's best interest to have his/her benefits managed by another party. The regulatory authority for collecting this information is at 20 CFR 725.506, 510, 511, and 513.

Darrin A. King,
Acting Departmental Clearance Officer.

[FR Doc. 05-16026 Filed 8-11-05; 8:45 am]

BILLING CODE 4510-27-U